DEPARTMENT OF DEFENSE

Office of the Secretary

32 CFR Part 1288

[Docket ID: DOD-2018-OS-0066]

RIN 0790-AK15

Registration of Privately Owned Motor Vehicles

AGENCY: Defense Logistics Agency (DLA), DoD.

ACTION: Final rule.

SUMMARY: This part was established to prescribe the Department of Defense (DoD) policy and procedures for the registration, inspection, and marking of privately owned vehicles (POV) on Defense Logistics Agency (DLA) activities. Since the requirement to register, inspect, and mark privately-owned vehicles on DLA activities was rescinded in 2012, the need for this part no longer exists, and it should be removed from the CFR.

DATES: This rule is effective on February 6, 2020.

FOR FURTHER INFORMATION CONTACT: Bruce A. Thomas, Deputy Staff Director, Security & Emergency Services, DLA Installation Management, 571-767-1279.

SUPPLEMENTARY INFORMATION: It has been determined that publication of this CFR part removal for public comment is impracticable, unnecessary, and contrary to public interest since it is based on removing obsolete DoD policies and procedures.

DLA activities historically registered and marked vehicles accessing DLA activities as a force protection measure to ensure only authorized vehicles were granted access. DLA ceased registering vehicles accessing DLA activities in November 2011 following policy direction from the Department of Defense. DoD Directive-Type Memorandum (DTM) 09-012, “Interim Policy Guidance for DoD Physical Access Control” (available at http://www.esd.whs.mil/Portals/54/Documents/DD/issuances/dtm/DTM-09-012.pdf?ver=2018-08-23-074619-957), was published in September 2009 and defined new minimum standards for controlling access to DoD installations. Access control shifted from vehicle identification to personnel identification and validation of personnel identification credentials. DLA formally rescinded its policy, DLA Instruction 4309, “Vehicle Registration,” on August 2, 2012.

This rule is not significant under Executive Order (E.O.) 12866, “Regulatory Planning and Review.” Therefore, E.O. 13771, “Reducing Regulation and Controlling Regulatory Costs,” does not apply.

List of Subjects in 32 CFR Part 1288

Motor vehicles.

PART 1288—[REMOVED]

Accordingly, by the authority of 5 U.S.C. 301, 32 CFR part 1288 is removed.

Dated: January 27, 2020.
Aaron T. Siegel,
Alternate OSD Federal Register Liaison Officer, Department of Defense.

[FR Doc. 2020-01686 Filed 2-5-20; 8:45 am]

BILLING CODE 5001-06-P